FEDERAL RESERVE SYSTEM

Formations of, Acquisitions by, and Mergers of Bank Holding Companies; Correction

This notice corrects a notice (FR Doc. E7-13180) published on page 37224 of the issue for Monday, July 9, 2007.

Under the Federal Reserve Bank of Boston heading, the entry for Royal Bank of Scotland Group, plc, the Royal Bank of Scotland, plc, RBSG International Holdings Limited, all of Edinburgh, Scotland, Citizens Financial Group, Providence, Rhode Island, Banco Santander Central Hispano, S.A., Madrid, Spain, Santander Holanda B.V., Delft, Netherlands, Fortis N.V., Utrecht, Netherlands, Fortis S.A./N.V., Fortis Brussels, S.A./N.V., Fortis Bank S.A./N.V.,all of Brussels, Belgium, Fortis Bank Nederland (Holding) N.V., Utrecht, Netherlands, and RFS Holdings B.V., Amsterdam, Netherlands, is revised to read as follows:

A. Federal Reserve Bank of Boston (Richard Walker, Community Affairs Officer) P.O. Box 55882, Boston, Massachusetts 02106-2204:

1. Royal Bank of Scotland Group, plc, Edinburgh, Scotland, Banco Santander Central Hispano, S.A., Madrid, Spain, Santander Holanda B.V., Delft, Netherlands, Fortis N.V., Utrecht, Netherlands, Fortis S.A./N.V.,Fortis Brussels, S.A./N.V., Fortis Bank, all of Brussels, Belgium, Fortis Bank Nederland (Holding) N.V., Utrecht, Netherlands, and RFS Holdings B.V., Amsterdam, Netherlands; to control ABN AMRO Holding N.V. Amsterdam, Netherlands, and thereby indirectly acquire ABN AMRO North American Holding Company, LaSalle Bank Corporation, LaSalle Bank National Association, all of Chicago, Illinois, and LaSalle Bank Midwest National Association, Troy, Michigan. In connection with this proposal Fortis Bank Nederland (Holding) N.V., Santander Holand B.V. and RFS Holdings B.V. have applied to become bank holing companies.

In addition, each of The Royal Bank of Scotland Group, plc, The Royal Bank of Scotland plc, RBSG International Holdings Limited, all of Edinburgh, Scotland, and Citizens Financial Group, Inc., Providence, Rhode Island, has applied to acquire control of ABN AMRO North American Holding Company, LaSalle Bank Corporation, LaSalle Bank National Association, and LaSalle Bank Midwest National Association in a transfer subsequent to the acquisition of control of ABN AMRO Holding N.V.

Comments on this application must be received by July 25, 2007.

Board of Governors of the Federal Reserve System, July 9, 2007.
Robert deV. Frierson,
Deputy Secretary of the Board.

[FR Doc. E7-13530 Filed 7-11-07; 8:45 am]

BILLING CODE 6210-01-S